Title 3—

The President

Proclamation 9164 of September 9, 2014

Twentieth Anniversary of the Violence Against Women Act

By the President of the United States of America

A Proclamation

Twenty years ago, our Nation came together to declare our commitment to end violence against women. The Violence Against Women Act (VAWA), written by then United States Senator Joe Biden and signed into law on September 13, 1994, changed the way our country responds to domestic abuse and sexual assault. At a time when many considered domestic abuse to be a private family matter and victims were left to suffer in silence, this law enshrined a simple promise: every American should be able to pursue her or his own measure of happiness free from the fear of harm. On the anniversary of this landmark legislation, we rededicate ourselves to strengthening the protections it first codified, and we reaffirm the basic human right to be free from violence and abuse.

The Violence Against Women Act created a vital network of services for victims. It expanded the number of shelters and rape crisis centers across America and established a national hotline. The law improved our criminal justice system and provided specialized training to law enforcement, helping them better understand the unique challenges victims face. It spurred new State laws and protections and changed the way people think about domestic abuse; today, more women are empowered to speak out, and more girls grow up aware of their right to be free from abuse.

Last year, I was proud to renew our pledge to our mothers and daughters by reauthorizing VAWA and extending its protections—because no matter where you live or who you love, everybody deserves security, justice, and dignity. These new protections make Native American communities safer and more secure and help ensure victims do not face discrimination based on sexual orientation or gender identity when they seek assistance. They provide our law enforcement officials with better tools to investigate rape and increase access to housing so no woman has to choose between a violent home and no home at all. And my Administration continues to build on the foundation of this legislation, launching new initiatives to reduce teen dating violence and to combat sexual assault on college campuses.

VAWA has provided hope, safety, and a new chance at life for women and children across our Nation. With advocates, law enforcement officers, and courageous women who have shared their stories joined in common purpose, our country has changed its culture; we have made clear to victims that they are not alone and reduced the incidence of domestic violence. But we still have more work to do. Too many women continue to live in fear in their own homes, too many victims still know the pain of abuse, and too many families have had to mourn the loss of their loved ones. It has to end—because even one is too many. For as long as it takes, my Administration will keep pushing to make progress on our military bases, in our homes, at schools, and across our country.

Two decades later, a tireless effort has yielded a better, stronger Nation. And on the anniversary of the Violence Against Women Act, we continue to work toward a more perfect society, where the dreams of our mothers and daughters are not limited by fear and where every person can feel safe.

NOW, THEREFORE, I, BARACK OBAMA, President of the United States of America, by virtue of the authority vested in me by the Constitution and laws of the United States, do hereby proclaim the Twentieth Anniversary of the Violence Against Women Act. I call upon men and women of all ages, communities, organizations, and all levels of government, to work in collaboration to end violence against women.

IN WITNESS WHEREOF, I have hereunto set my hand this ninth day of September, in the year of our Lord two thousand fourteen, and of the Independence of the United States of America the two hundred and thirty-ninth.

[FR Doc. 2014-22008

Filed 9-11-14; 11:15 am]

Billing code 3295-F4